RAILROAD RETIREMENT BOARD

Proposed Collection; Comment Request

Summary: In accordance with the requirement of Section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

1. Title and purpose of information collection: Employer Reporting; 3220-0005.

Under Section 9 of the Railroad Retirement Act (RRA) (45 U.S.C. 231h), and Section 6 of the Railroad Unemployment Insurance Act (RUIA) (45 U.S.C. 356), railroad employers are required to submit reports of employee service and compensation to the RRB as needed for administering the RRA and RUIA. To pay benefits due on a deceased employee's earnings records or determine entitlement to, and amount of annuity applied for, it is necessary at times to obtain from railroad employers current (lag) service and compensation not yet reported to the RRB through the annual reporting process. The reporting requirements are specified in 20 CFR 209.6 and 209.7.

The RRB currently utilizes the following forms to collect information to obtain the required lag service and related information from railroad employers: Form AA-12, Notice of Death and Request for Service Needed for Eligibility, Form G-88A.1 (or its internet equivalent, Form G-88A.1 (internet)), Request for Verification of Date Last Worked, and Form G-88A.2 (or its internet equivalent, Form G-88A.2 (internet)), Notice of Retirement and Request for Service Needed for Eligibility. Form AA-12 obtains a report of lag service and compensation from the last railroad employer of a deceased employee. This report covers the lag period between the date of the latest record of employment processed by the RRB and the date an employee last worked, the date of death or the date the employee may have been entitled to benefits under the Social Security Act. The information is used by the RRB to determine benefits due on the deceased employee's earnings record. Form G-88A.1 is sent by the RRB via a computer-generated listing or transmitted electronically via the RRB's Employer Reporting System (ERS) to employers. ERS consists of a series of screens with completion instructions and collects essentially the same information as the approved manual version. Form G-88A.1 is used for the specific purpose of verifying information previously provided to the RRB regarding the date last worked by an employee. If the information is correct, the employer need not reply. If the information is incorrect, the employer is asked to provide corrected information. Form G-88A.2 is used by the RRB to secure lag service and compensation information when it is needed to determine benefit eligibility.

In addition, 20 CFR 209.12(b) requires all railroad employers to furnish the RRB with the home addresses of all employees hired within the last year (new hires). Form BA-6a, Form BA-6 Address Report (or its internet equivalent, Form BA-6a (internet)) is used by the RRB to obtain home address information of employees from railroad employers who do not have the home address information computerized and who submit the information in a paper format. The form also serves as an instruction sheet to railroad employers who submit the information electronically by CD-ROM. Completion of the forms is mandatory. Multiple responses may be filed by respondent. The RRB proposes no changes to Forms AA-12, BA-6a, BA-6a (Email), BA-6a (internet), G-88A.1, G-88A.1 (internet), G-88A.2 and G-88A.2 (internet).

Estimate of Annual Respondent Burden
Form No. | Annual responses | Time (minutes) | Burden (hours)
AA-12 | 60 | 5 | 5
G-88A.1 | 100 | 5 | 8
G-88A.1 Internet | 400 | 4 | 27
G-88A.2 | 100 | 5 | 8
G-88A.2 (Internet) | 1,200 | 2.5 | 50
BA-6a Internet (RR initiated) | 250 | 17 | 71
BA-6a Internet (RRB initiated) | 250 | 12 | 50
BA-6a (Electronic Equivalents to include secure email and File Transfer Protocol) | 20 | 15 | 5
BA-6a Paper (RRB initiated) | 250 | 32 | 133
Total | 2,630 |  | 357

2. Title and purpose of information collection: Survivor Questionnaire; OMB 3220-0032.

Under Section 6 of the Railroad Retirement Act (RRA) (45 U.S.C. 231e), benefits that may be due on the death of a railroad employee or a survivor annuitant include (1) a lump-sum death benefit (2) a residual lump-sum payment (3) accrued annuities due but unpaid at death, and (4) monthly survivor insurance payments. The requirements for determining the entitlement of possible beneficiaries to these benefits are prescribed in 20 CFR 234.

When the RRB receives notification of the death of a railroad employee or survivor annuitant, an RRB field office utilizes Form RL-94-F, Survivor Questionnaire, to secure additional information from surviving relatives needed to determine if any further benefits are payable under the RRA. Completion is voluntary. One response is requested of each respondent. The RRB proposes no changes to Form RL-94-F.

Form No. | Annual responses | Time (minutes) | Burden (hours)
RL-94-F, Items 5-10, and 18 | 50 | 9 | 8
RL-94-F, Items 5-18 | 5,000 | 11 | 917
RL-94-F, Item 18 only | 400 | 5 | 34
Total | 5,450 |  | 959

3. Title and purpose of information collection: Request for Medicare Payment; OMB 3220-0131.

Under Section 7(d) of the Railroad Retirement Act (45 U.S.C. 231f), the RRB administers the Medicare program for persons covered by the railroad retirement system. The collection obtains the information needed by Palmetto GBA, the Medicare carrier for railroad retirement beneficiaries, to pay claims for payments under Part B of the Medicare program. Authority for collecting the information is prescribed in 42 CFR 424.32.

The RRB currently utilizes Forms G-740S, Patient's Request for Medicare Payment, along with Centers for Medicare & Medicaid Services Form CMS-1500, to secure the information necessary to pay Part B Medicare Claims. One response is completed for each claim. Completion is required to obtain a benefit. The RRB proposes no changes to Form G-740S.

Estimate of Annual Respondent Burden
Form No. | Annual responses | Time (minutes) | Burden (hours)
G-740S | 1 | 0 | 1

4. Title and purpose of information collection: Employer's Deemed Service Month Questionnaire; OMB 3220-0156.

Section 3 (i) of the Railroad Retirement Act (RRA) (45 U.S.C. 231b), as amended by P.L. 98-76, provides that the Railroad Retirement Board (RRB), under certain circumstances, may deem additional months of service in cases where an employee does not actually work in every month of the year, provided the employee satisfies certain eligibility requirements, including the existence of an employment relation between the employee and his or her employer. The procedures pertaining to the deeming of additional months of service are found in the RRB's regulations at 20 CFR 210, Creditable Railroad Service.

The RRB utilizes Form GL-99, Employer's Deemed Service Months Questionnaire, to obtain service and compensation information from railroad employers to determine if an employee can be credited with additional deemed months of railroad service. Completion is mandatory. One response is required for each RRB inquiry. The RRB proposes no changes to Form GL-99.

Estimate of Annual Respondent Burden
Form No. | Annual responses | Time (minutes) | Burden (hours)
GL-99 | 2,000 | 2 | 67

Additional Information or Comments: To request more information or to obtain a copy of the information collection justification, forms, and/or supporting material or comments regarding the information collection should be addressed to Brian Foster, Railroad Retirement Board, 844 North Rush Street, Chicago, Illinois 60611-1275 or emailed to Brian.Foster@rrb.gov. Written comments should be received within 60 days of this notice.

Brian Foster,
Clearance Officer.

[FR Doc. 2025-20478 Filed 11-20-25; 8:45 am]

BILLING CODE 7905-01-P